DEPARTMENT OF COMMERCE

National Oceanic and Atmospheric Administration

[RTID 0648-XF286]

Atlantic Highly Migratory Species; Advisory Panel

AGENCY: National Marine Fisheries Service (NMFS), National Oceanic and Atmospheric Administration (NOAA), Commerce.

ACTION: Notice; solicitation of nominations.

SUMMARY: NMFS solicits nominations for the Atlantic Highly Migratory Species (HMS) Advisory Panel (AP). NMFS consults with and considers the comments and views of the HMS AP when preparing and implementing fishery management plans (FMPs) or FMP amendments for Atlantic swordfish, sharks, tunas, and billfish. Nominations are being sought to fill approximately one third (10) of the seats on the HMS AP, each with a 3-year appointment. NMFS will consider individuals with definable interests in recreational and commercial fishing and related industries, including those from the environmental community and non-governmental organizations, for membership on the HMS AP.

DATES: Submit nominations on or before January 8, 2026.

ADDRESSES: You may submit nominations and requests for the AP Statement of Organization, Practices, and Procedures by email to HMSAP.Nominations@noaa.gov. Include in the subject line the following identifier: “HMS AP Nominations.”

FOR FURTHER INFORMATION CONTACT: Anna Quintrell at 301-427-8503 or via email at HMSAP.Nominations@noaa.gov.

SUPPLEMENTARY INFORMATION: HMS fisheries (swordfish, sharks, tunas, and billfish) are managed under the 2006 Consolidated HMS FMP and its amendments pursuant to the authority of the Magnuson-Stevens Fishery Conservation and Management Act (Magnuson-Stevens Act; 16 U.S.C. 1801 et seq.) and consistent with the Atlantic Tunas Convention Act (16 U.S.C. 971 et seq.). HMS implementing regulations are at 50 CFR part 635.

The Magnuson-Stevens Act requires NMFS to establish an AP for each HMS FMP (16 U.S.C. 1854(g)(1)(A)-(B)). Since the inception of the AP in 1998, NMFS has consulted with and considered the comments and views of AP members when preparing and implementing HMS FMPs or FMP amendments. In this notice, NMFS solicits nominations for the HMS AP. Nominations are being sought to fill approximately one-third (10) of the seats on the HMS AP for 3-year appointments. NMFS will consider individuals with definable interests in recreational and commercial fishing and related industries, including those from the environmental community and non-governmental organizations for membership on the HMS AP as described below.

Procedures and Guidelines

Nomination Procedures for Appointments to the AP

Nomination packages should include:

1. The name and contact information, including mailing address, email address, and phone number of the nominee;

2. A description of the nominee's interest in HMS or HMS fisheries, or in particular species of swordfish, sharks, tunas, or billfish;

3. A statement of the nominee's background and/or qualifications;

4. A list of outreach resources that the nominee has at their disposal to communicate qualifications for HMS AP membership; and

5. A written commitment that the nominee shall actively participate in good faith in the meetings and tasks of the HMS AP.

Advisory Panel members will be required to comply with applicable rules of conduct, including all ethics requirements. Qualification for membership includes experience in one or more of the following:

1. HMS recreational fisheries;

2. HMS commercial fisheries;

3. Fishery-related industries (e.g., marinas, bait and tackle shops);

4. The scientific community working with HMS; and/or

5. Representation of a private, non-governmental, regional, national, or international organization that represents marine fisheries, or environmental, governmental, or academic interests regarding HMS.

HMS AP Tenure

Members are appointed for 3-year terms. Approximately one-third of the members' terms expire on December 31 of each year. NMFS is seeking nominations for terms beginning January 2026 and expiring December 2028.

Members can serve a maximum of three consecutive terms (a total of 9 consecutive years). Afterwards, a member must then sit off the HMS AP for a single year before becoming eligible to apply for a new term.

Participants

NMFS will accept nominations for the HMS AP that allow for representation from commercial and recreational fishing interests, scientific interests, and the environmental/non-governmental organization community, for individuals who are knowledgeable about HMS and/or HMS fisheries. Current representation on the HMS AP, as shown in Table 1, consists of 12 members representing commercial interests, 12 members representing recreational interests, 4 members representing environmental interests, 4 academic representatives, and the International Commission for the Conservation of Atlantic Tunas Advisory Committee Chair. NMFS seeks to fill three commercial, five recreational, and two environmental sector vacancies for terms starting in 2026.

In filling vacancies, NMFS will seek to maintain the current representation from each of the sectors. NMFS also considers species expertise and representation from the fishing regions (Northeast, Mid-Atlantic, Southeast, Gulf of America, and Caribbean) to ensure the balance of the HMS AP. Table 1 includes the current representation on the HMS AP by sector, region, and species with terms that are expiring identified in the “Member Status” column. It is not meant to indicate that NMFS will only consider persons who have expertise in the species or fishing regions that are listed. Rather, NMFS will aim toward having as balanced an AP as possible. The intent is to have a group that, as a whole, reflects an appropriate and equitable balance and mix of interests given the responsibilities of the HMS AP.

Table 1—Current Representation on the HMS AP by Sector, Region, and Species
Sector | Fishing region | Species | Date appointed | Date term expires | Member status
Academic | All | Billfish/HMS | 1/1/2024 | 12/31/2026 | Active.
Academic | Northeast/Mid-Atlantic | Tuna/Shark | 1/1/2025 | 12/31/2027 | Active.
Academic | Southeast/Gulf of America | Shark | 1/1/2025 | 12/31/2027 | Active.
Academic | Northeast | HMS | 1/1/2025 | 12/31/2027 | Active.
Commercial | Gulf of America | Tuna | 1/1/2023 | 12/31/2025 | Expiring.
Commercial | Southeast | Swordfish | 1/1/2023 | 12/31/2025 | Expiring.
Commercial | Mid-Atlantic/Southeast | Tuna | 1/1/2023 | 12/31/2025 | Expiring.
Commercial | Northeast | HMS | 1/1/2024 | 12/31/2026 | Active.
Commercial | Northeast | Tuna | 1/1/2024 | 12/31/2026 | Active.
Commercial | Northeast | Tuna | 1/1/2024 | 12/31/2026 | Active.
Commercial | Gulf of America | HMS | 1/1/2024 | 12/31/2026 | Active.
Commercial | Southeast/Gulf of America | HMS | 1/1/2025 | 12/31/2027 | Active.
Commercial | Northeast | Tuna | 1/1/2024 | 12/31/2026 | Active.
Commercial | All | HMS/Tuna | 1/1/2025 | 12/31/2027 | Active.
Commercial | Southeast | Shark | 1/1/2025 | 12/31/2027 | Active.
Commercial | Northeast | Swordfish/Tuna | 1/1/2025 | 12/31/2027 | Active.
Environmental | All | Tuna | 1/1/2023 | 12/31/2025 | Expiring.
Environmental | All | HMS | 1/1/2023 | 12/31/2025 | Expiring.
Environmental | All | HMS | 1/1/2024 | 12/31/2026 | Active.
Environmental | Caribbean | HMS | 1/1/2025 | 12/31/2027 | Active.
Recreational | Mid-Atlantic | Tuna/Billfish | 1/1/2024 | 12/31/2026 | Active.
Recreational | Mid-Atlantic | Shark | 1/1/2024 | 12/31/2026 | Active.
Recreational | Northeast | Tuna/Shark | 1/1/2023 | 12/31/2025 | Expiring.
Recreational | All | HMS | 1/1/2023 | 12/31/2025 | Expiring.
Recreational | Gulf of America | HMS | 1/1/2023 | 12/31/2025 | Expiring.
Recreational | All | Billfish | 1/1/2024 | 12/31/2026 | Active.
Recreational | Northeast | Tuna | 1/1/2023 | 12/31/2025 | Expiring.
Recreational | All | HMS | 1/1/2023 | 12/31/2025 | Expiring.
Recreational | All | HMS | 1/1/2025 | 12/31/2027 | Active.
Recreational | Northeast/Mid-Atlantic | HMS | 1/1/2025 | 12/31/2027 | Active.
Recreational | Northeast/Mid-Atlantic | Tuna/Shark | 1/1/2025 | 12/31/2027 | Active.
Recreational | Northeast | Tuna/Shark | 1/1/2025 | 12/31/2027 | Active.
Note: Terms that are expiring or associated with current members stepping down are marked as “Expiring”.

Five additional members on the HMS AP include one member representing each of the following Fishery Management Councils: the New England Fishery Management Council, the Mid-Atlantic Fishery Management Council, the South Atlantic Fishery Management Council, the Gulf Fishery Management Council, and the Caribbean Fishery Management Council. The HMS AP also includes 22 ex-officio participants: 20 representatives of the coastal states and 2 representatives of the interstate commissions (the Atlantic States Marine Fisheries Commission and the Gulf States Marine Fisheries Commission).

NMFS will provide the necessary administrative support, including technical assistance, for the HMS AP. However, NMFS will not compensate participants with monetary support of any kind. Depending on availability of funds, members may be reimbursed for travel costs related to the HMS AP meetings.

Meeting Schedule

NMFS will hold meetings of the HMS AP as frequently as necessary and, at a minimum, twice each year. In recent years, NMFS held meetings once in the spring and once in the fall. The meetings may be held in conjunction with public hearings.

Dated: December 5, 2025.
Kelly Denit,
Director, Office of Sustainable Fisheries, National Marine Fisheries Service.

[FR Doc. 2025-22374 Filed 12-8-25; 8:45 am]

BILLING CODE 3510-22-P